DEPARTMENT OF HEALTH AND HUMAN SERVICES

Centers for Disease Control and Prevention

National Center for Health Statistics, Classifications and Public Health Data Standards Staff: Meeting

Name: ICD-10 Coordination and Maintenance (C&M) Committee meeting.

Time and Date: 9 a.m.-5 p.m., EDT, September 13-14, 2016.

Place: Centers for Medicare and Medicaid Services (CMS) Auditorium, 7500 Security Boulevard, Baltimore, Maryland 21244.

Status: Open to the public, limited only by the space available. The meeting room accommodates approximately 240 people. We will be broadcasting the meeting live via Webcast at http://www.cms.gov/live/.

Security Considerations: Due to increased security requirements CMS has instituted stringent procedures for entrance into the building by non-government employees. Attendees will need to present valid government-issued picture identification, and sign-in at the security desk upon entering the building.

Attendees who wish to attend the September 13-14, 2016 ICD-10-CM C&M meeting must submit their name and organization by September 2, 2016 for inclusion on the visitor list. This visitor list will be maintained at the front desk of the CMS building and used by the guards to admit visitors to the meeting.

Participants who attended previous Coordination and Maintenance meetings will no longer be automatically added to the visitor list. You must request inclusion of your name prior to each meeting you wish to attend.

Please register to attend the meeting on-line at: http://www.cms.hhs.gov/apps/events/. Please contact Mady Hue (410-786-4510 or Marilu.hue@cms.hhs.gov), for questions about the registration process.

Purpose: The ICD-10 Coordination and Maintenance (C&M) Committee is a public forum for the presentation of proposed modifications to the International Classification of Diseases, Tenth Revision, Clinical Modification and ICD-10 Procedure Coding System.

Matters To Be Discussed: Agenda items include:

September 13-14, 2016.

ICD-10-PCS Topics

Administration of Influenza Vaccine

Administration of Peptide Enhanced Bone Graft

Balloon Atrial Septostomy

Extracorporeal Carbon Dioxide Removal

Extracorporeal Treatment of Vascular Grafts

Intramuscular Autologous Bone Marrow Cell Therapy

Resuscitative Endovascular Balloon Occlusion of the Aorta

Addenda and Key Updates

ICD-10-CM Diagnosis Topics

Abnormality in Fetal Heart Rate or Rhythm

Acute Appendicitis

Acute Cholecystitis

Acute Respiratory Distress

Amyloidosis

Antenatal Screening

Atrial Fibrillation (AF)

ATV and Motor-cross Vehicle Injuries

Body Integrity Dysphoria

Disease of Intestine

E-cigarette Use

Hepatic Diverticular Encephalopathy

Injury to Optic Tract and Visual Cortex

Intestinal Obstruction

Neonatal Encephalopathy

Obstetrical Issues

Parrots/Macaws Modifications

Personal History of Mesothelioma and Secondary Mesothelioma

Primary and Central Hypothyroidism

Post Endometrial Ablation Syndrome

Pulmonary Arterial Hypertension (re-presentation)

Sickle Cell w/o Acute Chest Syndrome or Splenic Sequestration

Spinal Stenosis With Neurogenic Claudication

Surgical Site Infection

Types of MI

Umbilical Granuloma in the Perinatal Period

Zika Related Newborn Conditions

Agenda items are subject to change as priorities dictate.

Note: CMS and National Center for Health Statistics (NCHS) no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons for Additional Information: Donna Pickett, Medical Systems Administrator, Classifications and Public Health Data Standards Staff, NCHS, 3311 Toledo Road, Hyattsville, Maryland 20782, email dfp4@cdc.gov, telephone 301-458-4434 (diagnosis); Mady Hue, Health Insurance Specialist, Division of Acute Care, CMS, 7500 Security Boulevard, Baltimore, Maryland 21244, email marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2016-19790 Filed 8-18-16; 8:45 am]

BILLING CODE 4160-18-P